NUCLEAR REGULATORY COMMISSION

[NRC-2016-0252]

Assumptions Used for Evaluating the Potential Radiological Consequences of a Fuel Handling Accident in the Fuel Handling and Storage Facility for Boiling and Pressurized Water Reactors

AGENCY: Nuclear Regulatory Commission.

ACTION: Regulatory guide; withdrawal.

SUMMARY: The U.S. Nuclear Regulatory Commission (NRC) is withdrawing regulatory guide (RG) 1.25, “Assumptions used for Evaluating the Potential Radiological Consequences of a Fuel Handling Accident in the Fuel Handling and Storage Facility for Boiling and Pressurized Water Reactors.” This document is being withdrawn because the guidance contained in RG 1.25 has been superseded and is now incorporated into RG 1.183, “Alternative Radiological Source Terms for Evaluating Design Basis Accidents at Nuclear Power Reactors,” and RG 1.195, “Methods and Assumptions for Evaluating Radiological Consequences of Design Basis Accidents at Light-Water Nuclear Power Reactors.”

DATES: The effective date of the withdrawal of RG 1.25, “Assumptions used for Evaluating the Potential Radiological Consequences of a Fuel Handling Accident in the Fuel Handling and Storage Facility for Boiling and Pressurized Water Reactors” is December 12, 2016.

ADDRESSES: Please refer to Docket ID NRC-2016-0252 when contacting the NRC about the availability of information regarding this document. You may obtain publicly-available information related to this document using any of the following methods:

• Federal Rulemaking Web site: Go to http://www.regulations.gov and search for Docket ID NRC-2016-0252. Address questions about NRC dockets to Carol Gallagher; telephone: 301-415-3463; email: Carol.Gallagher@nrc.gov. For technical questions, contact the individual(s) listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The withdrawal notice for RG 1.25 is available in ADAMS under accession No. ML16105A081.

• NRC's PDR: You may examine and purchase copies of public documents at the NRC's PDR, Room O1-F21, One White Flint North, 11555 Rockville Pike, Rockville, Maryland 20852.

FOR FURTHER INFORMATION CONTACT: John Parillo, Office of Nuclear Reactor Regulation, telephone 301-415-1344; email John.Parillo@nrc.gov or Mark Orr, Office of Nuclear Regulatory Research, telephone: 301-415-6003; email: Mark.Orr@nrc.gov. Both are staff of the U.S. Nuclear Regulatory Commission, Washington, DC 20555-0001.

SUPPLEMENTARY INFORMATION: Regulatory guides may be withdrawn by the NRC when their guidance no longer provides useful information, or is superseded by technological innovations, congressional actions, or other events. The withdrawal of an RG should be thought of as the final revision of the guide.

The NRC issued RG 1.25, “Assumptions used for Evaluating the Potential Radiological Consequences of a Fuel Handling Accident in the Fuel Handling and Storage Facility for Boiling and Pressurized Water Reactors,” in March 1972 to provide guidance for the evaluation of the design basis fuel handling accident to demonstrate compliance with the NRC's regulations in part 100 of Title 10 of the Code of Federal Regulations. The NRC is withdrawing RG 1.25 because the guidance contained in RG 1.25 has been superseded by more current guidance, which has been incorporated into RG 1.183, “Alternative Radiological Source Terms for Evaluating Design Basis Accidents at Nuclear Power Reactors,” and RG 1.195, “Methods and Assumptions for Evaluating Radiological Consequences of Design Basis Accidents at Light-Water Nuclear Power Reactors.” The information in RG 1.183 provides guidance for new and existing light-water reactor (LWR) plants that have adopted the alternative source term (AST), and RG 1.195 provides guidance for those LWR plants that have not adopted the AST.

The withdrawal of RG 1.25 does not alter any prior or existing NRC licensing approval or the acceptability of licensee commitments to RG 1.25. Although RG 1.25 is withdrawn, current licensees may continue to use it, and withdrawal does not affect any existing licenses or agreements. However, RG 1.25 should not be used in future requests or applications for NRC licensing actions.

Dated at Rockville, Maryland, this 5th day of December, 2016.
For the Nuclear Regulatory Commission.
Thomas H. Boyce,
Chief, Regulatory Guidance and Generic Issues Branch, Division of Engineering, Office of Nuclear Regulatory Research.

[FR Doc. 2016-29661 Filed 12-9-16; 8:45 am]

BILLING CODE 7590-01-P